DEPARTMENT OF THE INTERIOR

National Park Service

[NPS-PWR-PWRO-15166; PPPWOLYMS1-PPMPSPD1Z.YM0000]

Notice of Intent To Prepare Environmental Impact Statement for a Mountain Goat Management Plan, Olympic National Park, Clallam, Grays Harbor, Jefferson and Mason County, Washington

AGENCY: National Park Service, Interior.

ACTION: Notice of Intent.

SUMMARY: Pursuant to the National Environmental Policy Act of 1969, 42 U.S.C. 4332(2)(C), the National Park Service (NPS) is preparing an Environmental Impact Statement (EIS) for a Mountain Goat Management Plan, in order to provide management direction necessary to address resource stewardship and human safety issues resulting from the presence of non-native mountain goats within Olympic National Park. The Mountain Goat Management Plan will also consider potential impacts to park resources and values including visitor experience, wilderness character, vegetation, wildlife and habitat, park operations, and cultural resources.

DATES: All comments must be postmarked or transmitted not later than September 19, 2014.

FOR FURTHER INFORMATION CONTACT: Information about the EIS and the scoping process may be obtained by contacting Christina Miller at (360) 565-3004. Information will be available for public review online at http://parkplanning.nps.gov/olymgoat and in the office of the Superintendent, Olympic National Park, 600 East Park Ave., Port Angeles, WA 98362.

SUPPLEMENTARY INFORMATION: Management direction is needed to address resource management and human safety issues resulting from the presence of non-native mountain goats in Olympic National Park. The mountain goat is not native to the Olympic Peninsula, having been introduced in the 1920s. By the early 1980s, the goat population in the park grew to over 1,000 individuals. Several hundred goats were removed during the 1980s, reducing the population to less than 400 by 1990. The population was stable at approximately 300 goats from 1994-2004, however it was observed to be increasing at a 5% annual rate in 2011. The original need to manage the goat population was driven by ecological concerns related to the impact of goats on the park's natural resources, particularly sensitive vegetation communities. New concerns were raised in 2010 when a visitor was fatally gored by a mountain goat while hiking on a park trail. The park updated its Mountain Goat Action Plan (part of the Olympic National Park Nuisance and Hazardous Animal Management Plan) in 2011. This plan addresses mountain goat behavior and seeks to minimize the potential for hazardous goat-human encounters. Planning and compliance is needed to address overall management of the mountain goat population within the park.

This effort will result in a plan that provides for the overall management of mountain goats and considers the non-native goats' effects on natural processes and habitats, visitor safety, wilderness, vegetation, wildlife, park operations, cultural resources and other resources. As part of the EIS process, the NPS will evaluate different approaches for managing mountain goats in Olympic National Park. Preliminary alternatives to be considered include no-action, capture and translocation, lethal removal, increased nuisance control and combinations of the above.

How to Provide Scoping Comments: Interested individuals, organizations, and agencies are encouraged to provide comments regarding the scope of issues to be addressed in the EIS, alternative approaches to managing mountain goats in the park, and other concerns regarding this conservation planning and environmental impact analysis process. NPS intends to hold public scoping meetings on the Mountain Goat Management Plan/EIS in the vicinity of the park, including Port Angeles, Seattle, and Olympia during the scoping period. Specific dates, times, and locations will be made available in the local media and on the NPS Planning, Environment and Public Comment (PEPC) Web site at http://parkplanning.nps.gov/olymgoat. The scoping meetings will also be announced via a park press release and through email notification to the individuals and organizations on the park's mailing list. Those wishing to be added to the project information distribution list should send an email request to olym_goats@nps.gov. The NPS will provide additional opportunities for the public to provide written comments upon publication and release of the Draft EIS.

If you wish to comment during the scoping process, you may use any one of several methods. The preferred method for submitting comments is on the NPS PEPC Web site (see above). You may also mail your comments to Olympic National Park, Attn: Mountain Goat Management Plan, 600 East Park Ave., Port Angeles, WA 98362 or fax them to (360) 565-3015. Written comments will also be accepted during scheduled public meetings. Comments will not be accepted by email, or in any other method than those specified above. Comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Decision Process: After the analysis of all responses and information received during the scoping period, a Draft EIS will be prepared. Subsequently, a Final EIS will be prepared after consideration of all comments received. Thereafter, but not sooner than 30 days after the release of the Final EIS, a Record of Decision will be prepared. Because this is a delegated EIS, the official responsible for approval of the Mountain Goat Management Plan/Final EIS is the Regional Director, Pacific West Region. Thereafter, the official responsible for implementation of the approved Mountain Goat Management Plan is the Superintendent, Olympic National Park.

Dated: June 16, 2014.
Christine S. Lehnertz,
Regional Director, Pacific West Region.

[FR Doc. 2014-17077 Filed 7-18-14; 8:45 am]

BILLING CODE 4312-FF-P